DEPARTMENT OF AGRICULTURE

Food and Nutrition Service

Agency Information Collection Activities: Renewing Burden Number 0584-0293

AGENCY: Food and Nutrition Service (FNS), USDA.

ACTION: Notice.

SUMMARY: In accordance with the Paperwork Reduction Act of 1995, this notice invites the public and other public agencies to comment on this proposed information collection. This is a revision to a currently approved collection, to prevent a lapse in OMB approval of data collection. This collection allows for Food Distribution Programs, such as the National School Lunch Program (NSLP), the Food Distribution Program on Indian Reservations (FDPIR), the Commodity Supplemental Food Program (CSFP), and The Emergency Food Assistance Program (TEFAP), to run effectively.

DATES: Written comments must be received on or before May 30, 2023.

ADDRESSES: The Food and Nutrition Service, USDA, invites interested persons to submit written comment.

• Preferred Method: Federal eRulemaking Portal. Go to http://www.regulations.gov and follow the online instructions for submitting comments electronically.

• Mail: Send comments to Lisa Mays, Food and Nutrition Service, 1320 Braddock Place, 3rd Floor, Alexandria, Virginia 22314.

All responses to this notice will be summarized and included in the request for Office of Management and Budget (OMB) approval. All comments will be a matter of public record.

FOR FURTHER INFORMATION CONTACT: Requests for additional information or copies of this information collection should be directed to Lisa Mays by phone at (703) 457-7762 or via email at lisa.mays@usda.gov.

SUPPLEMENTARY INFORMATION: The information reported and the records kept for purposes of review under 7 CFR parts 240, 247, 250, 251, 253, and 254 are used by State and recipient agencies, Indian Tribal Organizations (ITOs), and FNS regional and national offices for the purpose of administering USDA Food Distribution Programs. The programs assist American farmers and people who are food insecure by purchasing commodities and delivering them to State agencies and ITOs that, in turn, distribute them to organizations for use in providing food assistance to those in need. The information collected allows State agencies and ITOs to administer programs that align with their local preferences and gives FNS National and Regional offices the ability to ensure programs are complying with program regulations and policies.

Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Supplementary Information

Title: Food Distribution Burden Table.

Form Numbers: FNS 7, 52, 53, 57, 152, 153, 155, 667, and SF-425.

OMB Number: 0584-0293.

Expiration Date: July 31, 2023.

Abstract: The Food Distribution Programs of the United States Department of Agriculture (USDA) assist American farmers and needy people by purchasing and delivering food to State agencies and ITOs that, in turn, distribute them to organizations that assist those in need. Effective administration of Food Distribution Programs is dependent on the collection and submission of information from State and local agencies, ITOs, and private-for-profit companies to FNS. This information includes, for example, the number of households served in the programs; the quantities of foods ordered and where the food is to be delivered; verification of the receipt of a food order; and the amounts of USDA Foods in inventory. FNS employs this information collection activity to obtain the data necessary to make those calculations. This is a revision of the information collection under the burden number 0584-0293.

Regulations at 7 CFR 240 establish procedures for State distributing agencies which receive cash in lieu of USDA Foods, including the manner of disbursement and requirements for accountability for funds. Although the reporting burden for these forms is captured in a separate information activity collection (OMB #0584-0055), the recordkeeping burden of these collections is included in this revision and renewal.

Regulations at 7 CFR 247 provide instructions on the administration of the Commodity Supplemental Food Program (CSFP). Information collections in this section include applications to receive benefits, USDA Foods inventory management, use of administrative funding, and agreements between State agencies operating the program and FNS. These information collections ensure that the eligible individuals are able to access the program, that foods are distributed in a safe and effective manner, and that Federal funds are used appropriately.

Regulations at 7 CFR 250 govern the use of USDA Foods in child nutrition programs, household food distribution programs, disasters, and situations of distress. Information collection activities authorized by this section are necessary so that the Department can distribute USDA Foods as needed to State distributing agencies and, in turn, that State distributing agencies provide USDA Foods and associated funding to recipient agencies in accordance with Federal statutory and regulatory requirements.

Regulations at 7 CFR 251 establish requirements and procedures for administration of The Emergency Food Assistance Program (TEFAP). Information collections authorized by this section include agreements between State agencies and FNS, plans for statewide distribution of USDA Foods, State plan amendments to implement Farm to Food Bank project grants, and records of participation in the distribution of USDA Foods for home consumption. These information collections provide FNS with an understanding of how USDA Foods are distributed through the program.

Regulations at 7 CFR 253 govern the Food Distribution Program on Indian Reservations (FDPIR). Information collections authorized by this section include plans of program operation, plans for monitoring and oversight of program operation by Tribal organizations, management of administrative funds, and reports of damaged or out of condition USDA Foods. These information collections allow FNS to understand how USDA Foods will be distributed by administering organizations, how Federal funds are used to support program operations, and ensure that USDA Foods are distributed in a safe and effective manner.

Regulations at 7 CFR part 254 establish requirements and procedures for the operation of FDPIR for households in Oklahoma. Information collections authorized by this section are identical to those of 7 CFR 253.

There are other forms which are used to report information that are associated with this collection that are approved under other FNS information collections or in other agency information collections. The burden associated with these forms is approved under these collections and is not included in the total burden for this collection. These forms include FNS-44 Report of Child and Adult Care Food Program, FNS-10 Report of School Operations, FNS-191 CSFP Racial/Ethnic Group Participation, FNS-292A Report of Commodity Distribution for Disaster Relief, and FNS-292B Disaster Supplemental Nutrition Assistance Program Benefit Issuance (OMB #0584-0594 Food Programs Reporting System (FPRS), expiration date 7/31/2023) and FNS-74 Federal-State Agreement (OMB #0584-0067 7 CFR part 235—State Administrative Expense (SAE) Funds, expiration date 1/31/2026). In addition to these Agency-developed forms, FNS also uses OMB Standard Forms SF-269 Financial Status Report (Long), SF-269A Financial Status Report (Short), SF-424 Application for Federal Assistance, and SF-1034 in the commodity programs.

Affected Public: Respondent groups include: (1) Individuals and households; (2) businesses or other for-profit entities; (3) not for-profit organizations; and (4) State, local, and tribal governments.

Estimated Number of Respondents: The total estimated number of respondents is 756,158. This includes 77,786 respondents from State, Local, and Tribal Governments, 6,886 from private for-profit business and companies, 3,079 nonprofits, and 725,700 households and individuals.

Estimated Number of Responses per Respondent: The total estimated average number of responses is 5.35.

Estimated Time per Response: The average response time is 0.30 hours (18 minutes) per response.

Estimated Total Annual Burden on Respondents: 1,218,613.38. See table below for estimated total annual burden for each type of respondent.

Affected public | Est. number of respondents | Number of responses per respondent | Total annual responses | Est. total hours per response | Est. total burden
Reporting
State, Local, and Tribal Governments | 26,175 | 8.89 | 232,806.24 | 0.25 | 59,317.75
Private for Profit | 3,443 | 199.28 | 861,749.33 | 0.03 | 26,229.88
Private Not for Profit | 840 | 3.86 | 3,240.00 | 0.19 | 614.50
Individual | 725,700.00 | 1.97 | 1,428,200.00 | 0.25 | 361,650.00
Total Estimated Reporting Burden | 756,158.00 | 3.34 | 2,525,995.57 | 0.18 | 447,812.13
Affected public | Est. number of recordkeepers | Number of responses per recordkeeper | Total annual responses | Est. total hours per response | Est. total burden
Recordkeeping
State, Local, and Tribal Governments | 51,611.00 | 9.14 | 471,720.46 | 0.08 | 35,467.24
Private for Profit | 6,886 | 150.22 | 1,034,429.00 | 0.06 | 62,671.72
Private Not for Profit | 3,079 | 4.15 | 12,782.00 | 52.63 | 672,662.29
Total Estimated Recordkeeping Burden | 61,576.00 | 24.67 | 1,518,931.46 | 0.51 | 770,801.25
Total of Reporting and Recordkeeping
Reporting | 756,158.00 | 3.34 | 2,525,995.57 | 0.18 | 447,812.13
Recordkeeping | 61,576.00 | 24.67 | 1,518,931.46 | 0.51 | 770,801.25
Total | 756,158.00 | 5.35 | 4,044,927.03 | 0.30 | 1,218,613.38

Tameka Owens,
Assistant Administrator, Food and Nutrition Service.

[FR Doc. 2023-06607 Filed 3-29-23; 8:45 am]

BILLING CODE 3410-30-P